ENVIRONMENTAL PROTECTION AGENCY

40 CFR Part 52

[TX-133-1-7493a; FRL-7011-6]

Approval and Promulgation of Implementation Plans; Texas; Houston/Galveston Volatile Organic Compound Reasonably Available Control Technology Revision

AGENCY: Environmental Protection Agency (EPA).

ACTION: Direct final rule.

SUMMARY: The EPA is taking direct final action to approve revisions to the Texas State Implementation Plan (SIP). This rulemaking covers four separate actions approving revisions to the Texas Rules for Control of Air Pollution from Volatile Organic Compounds (VOC Rules), 30 TAC Chapter 115. First, EPA is approving amendments to sections 115.161, 115.162, 115.164-115.167, and 115.169, concerning Batch Processes. Second, EPA is approving amendments to sections 115.120, 115.122, 115.125-115.127, and 115.129, concerning control requirements for bakeries and testing requirements for vents. Third, we are approving amendments to section 115.449, concerning Offset Lithographic Printing. Finally, EPA is approving numerous minor administrative changes to the VOC rules. The Texas Natural Resource Conservation Commission (TNRCC or Commission) adopted these revisions to Chapter 115, concerning Control of Air Pollution from Volatile Organic Compounds (VOC), and to the State Implementation Plan (SIP) in order to meet the Clean Air Act (Act) Reasonably Available Control Technology (RACT) requirements and to control VOC emissions in the Houston/Galveston ozone nonattainment area (HGA). By approving these SIP revisions, EPA is finding that RACT will be implemented for VOC emissions resulting from the operation of batch processes, bakeries (vent gas control), and offset lithography printing sources in the HGA area accordance with the requirements of the Act. In addition, the changes to test methods for vent gas control and various other minor changes will clarify and strengthen the SIP.

DATES: This rule is effective on September 14, 2001 without further notice, unless EPA receives adverse comment by August 15, 2001. If EPA receives such adverse comment, EPA will publish a timely withdrawal in the Federal Register informing the public the rule will not take effect.

ADDRESSES: Written comments on this action should be addressed to Mr. Thomas Diggs, Chief, Air Planning Section (6PD-L), at the EPA Region 6 Office listed below.

Copies of the documents relevant to this action, including the Technical Support Document (TSD), are available for public inspection during normal business hours at the following locations:

Environmental Protection Agency, Region 6, Air Planning Section (6PD-L), Multimedia Planning and Permitting Division, Region 6, Dallas, 1445 Ross Avenue, Texas 75202-2733, telephone: (214) 665-7214.

Texas Natural Resource Conservation Commission, 12100 Park 35 Circle, Austin, Texas 78711-3087.

Interested persons wanting to examine these documents should make an appointment with the appropriate office at least two working days in advance.

FOR FURTHER INFORMATION CONTACT: Mr. Kenneth Boyce, Air Planning Section (6PD-L), Multimedia Planning and Permitting Division, Environmental Protection Agency, Region 6, 1445 Ross Avenue, Dallas, Texas 75202-2733, telephone: (214) 665-7259.

SUPPLEMENTARY INFORMATION:

Table of Contents

1. What action is EPA taking?

2. What is a Volatile Organic Compound (VOC)?

3. Why do we regulate Volatile Organic Compounds (VOCs)?

4. What do the Batch Processing Rules require?

5. Where can I find EPA guidelines for Batch Processes?

6. What are the revisions to the requirements for bakery ovens (vent gas controls)?

7. Where can I find EPA guidelines on bakery oven emissions?

8. What are the changes to the testing requirements for vent streams?

9. What are the changes to the offset lithography requirements?

10. Where can I find EPA guidelines on offset lithographic printing?

11. What other revisions are being approved here?

12. What are Alternative Control Techniques (ACTS)?

13. What is Reasonably Available Control Technology?

14. What is a State Implementation Plan (SIP)?

15. What is the Federal approval process for a SIP?

16. What does Federal approval of a SIP mean to me?

17. What areas in Texas will this action effect?

Throughout this document “we,” “us,” and “our” means EPA. Please note that if we receive adverse comment(s) on an amendment, paragraph, or section of this rule and if that provision is independent of the remainder of the rule, we may adopt as final those provisions of the rule that are not the subject of adverse comment.

1. What Action Is EPA Taking?

Texas submitted revisions to its Rules for Control of Air Pollution from Volatile Organic Compounds to the EPA in a letter dated December 20, 2000. We are approving these revisions as part of the Texas State Implementation Plan. Specifically, we are approving the following changes:

• Revisions to portions of sections 115.161, 115.162, 115.164-115.167, and 115.169 incorporating Reasonably Available Control Technology requirements to control emissions from batch processes in the Houston/Galveston (HGA) area.

• Revisions to portions of sections 115.122(a)(3), 115.126(5) revising the requirements for vent gas controls for bakery ovens in the HGA area.

• Revisions to vent gas testing, monitoring and recordkeeping requirements, found in section 115.125 and 115.126.

• Revisions to 115.449 to ensure that Reasonably Available Control Technology requirements of 115.440, 115.442, 115.443, 115.445, 115.446 and 115.449 are implemented on offset lithography sources that have potential to emit more than 25 tons/year or more in the HGA area.

• And several minor changes to various provisions of Chapter 115.

In this document, we are now approving revisions to the Texas SIP concerning control of VOC emissions from batch processing, bakery oven emissions and offset lithographic printing as meeting the Act's RACT requirements for controlling VOC emissions from such operations in the HGA ozone nonattainment area. For more information on the SIP revision and EPA's RACT evaluation, please refer to our TSD dated June 2001. We are not acting on the Attainment Demonstration Plan for HGA in this action.

2. What Is a Volatile Organic Compound (VOC)?

Volatile Organic Compound is a term used to describe a class of chemicals that react in the atmosphere in the presence of sunlight to form ozone. Sources include vehicle exhaust, gasoline vapors, oil-based paints and industrial operations. A regulatory definition of Volatile Organic Compounds can be found at 40 CFR 51.100(s). The definition in Texas can be found in 30 TAC section 115.10.

3. Why Do We Regulate Volatile Organic Compounds (VOCs)?

Oxygen in the atmosphere reacts with VOCs and Oxides of Nitrogen to form ozone, a key component of urban smog. Inhaling even low levels of ozone can trigger a variety of health problems including chest pains, coughing, nausea, throat irritation, and congestion. It also can worsen bronchitis and asthma. Exposure to ozone can also reduce lung capacity in healthy adults.

4. What Do the Batch Processing Rules Require?

The Texas rules, found in sections 115.161, 115.162, 115.164-115.167 and 115.169, provide control requirements for batch processes in Texas. The revisions being approved here extend the applicability of requirements currently in affect for the Beaumont/Port Arthur (BPA) area to the HGA area. Batch processes are those processes characterized by non-steady state conditions. Products are used to make pharmaceuticals and specialty chemicals. The products are made in batches rather than continuously. They generate emissions from vents, reactors and process vessels.

The rules require that the VOC emissions from the vents be reduced by 90%. Vents can be exempted from control based on the volumetric flow rate of the gas stream and the mass flow rate of the VOCs. The rules include equations that allow vent streams to be considered separately and in combination to determine whether it is cost effective to control the vents. The rules envision that several vent streams could be routed together to a common control device if in combination the streams are cost effective to control. If, based on the equations, control of a stream is not found to be cost effective, either individually or combined with other streams in the batch process, the stream is exempted from control. We are approving these rules as implementing RACT for batch processing in the HGA area. For a complete description of our review of the Batch Processing Rules please see the Technical Support Document for this action.

5. Where Can I Find EPA Guidelines for Batch Processes?

You can find our guidelines on batch processing in the document number EPA-450/R-94-020, “Control of VOC's emissions from Batch Processes.” We have evaluated the Texas batch processing rules against our guidance document and have determined that the Texas batch processing rules meet our RACT requirement for such sources.

6. What Are the Revisions to the Requirements for Bakery Ovens?

The intended purpose of these rules to reduce VOC emissions and comply with the RACT requirements of the Act. The previous bakery rules which EPA granted limited approval, 62 FR 27965 (May 22, 1997), called for 30 percent control in the HGA, Beaumont/Port Arthur, and Dallas/Fort Worth areas, and we did not consider the 30 percent control as meeting the RACT. The amendments to section 115.122, concerning Control Requirements, change the 30% emission reduction requirement from the 1990 baseline emission inventory for major source bakeries in HGA to an 80% emission reduction requirement from the uncontrolled VOC emission rate of the oven(s). EPA approves this revision as meeting RACT requirements for bakery ovens, and strenghtening the existing approved Texas SIP. For further discussion of our review see the TSD for this action dated June 2001. Bakeries in the HGA ozone nonattainment area must comply with this rule as soon as practicable, but no later than December 31, 2001. See 30 TAC section 115.122(a)(3)(A).

7. Where Can I Find EPA Guidelines on Bakery Oven Emissions?

You can find our guidelines on bakery oven emissions in the document number EPA-453/R-92-017, “Alternative Control Technology for Bakery Oven Emissions.” You can also refer to the Memorandum from John S. Seitz, Director of Air Quality Planning and Standards, dated February 15, 1995 (Bakery Memo), that addresses issues concerning bakery RACT requirements. We have included a copy of the Bakery Memo in our TSD dated June, 2001, for reference purposes.

8. What Are the Changes to the Testing Requirements for Vent Streams?

The vent gas testing requirements have been revised to do the following:

• Section 115.125 has been modified to make clear the same test methods previously required in the nonattainment areas apply in all areas of the State.

• Establish New Source Performance Standard requirements set forth in 40 CFR 60.18 as the testing requirements for flares in the Beaumont/Port Arthur, Dallas/Fort Worth, and HGA ozone nonattainment areas.

• Section 126 has been modified to extend the monitoring and record keeping requirements for the nonattainment counties such as in the HGA area to Aransas, Bexar, Calhoun, Matagorda, San Patricio, Travis and Victoria counties.

We have reviewed the revisions to the test methods and are approving them on the basis of strengthening the SIP in the attainment counties. The changes to flare testing requirements are being approved as RACT in the Beaumont/Port Arthur area, Dallas/Fort Worth area and HGA.

9. What Are the Changes to the Offset Lithography Requirements?

The intended purpose of this rule is to reduce VOC emissions and comply with the requirements of the RACT. Specifically, this rule revision impacts sources located or operating in the HGA ozone nonattainment area. The amendments to sections 115.449(d) concerning Counties and Compliance Schedules, require the implementation of the offset lithographic printing rules contained in sections 115.440, 115.442, 115.443, 115.445, 115.446 in HGA for sources with VOC emissions equal to or greater than 25 tpy. The offset lithographic printing operations in the HGA ozone nonattainment area must comply with this rule as soon as practicable, but no later than December 31, 2002. See 30 TAC sections 115.449(d). The offset lithographic printing rule was originally adopted by Texas as contingency rule for HGA, meaning that it would only be implemented if the HGA missed a Rate of Progress milestone. After the effective date of these amendments, the rule will still be a contingency rule for offset lithographic printers in HGA with VOC emissions emitting less than 25 tpy to be implemented if the area misses a Rate of Progress Milestone. See 30 TAC section 115.449(e). We are approving this revision as implementing RACT for offset lithography sources in HGA.

10. Where Can I Find EPA Guidelines on Offset Lithographic Printing?

You can find our guidelines on offset lithographic printing in the document number EPA-453/R-94-054, “Alternative Control Techniques Document: Offset Lithographic Printing.” The TNRCC submitted its Offset Lithography Printing rules to us in August 1993. We have evaluated the Texas Offset Lithography Printing rules against our guidance document and have determined that the Texas Offset Lithography Printing rules meet our RACT requirement for such sources.

11. What Other Revisions Are Being Approved Here?

Texas made numerous minor revisions to the definitions used in the VOC rules, which are administrative in nature. These include:

• Moving definitions from the general definitions section contained at section 115.10 to the applicable rule sections 115.120, 115.240, and 115.430 where the definition is only used in that particular section.

• Deleting the definitions of flare and vapor combustor from chapter 115 because these terms are defined more clearly at in the TNRCC general rules 30 TAC 101.10.

• Clarifying the definitions of external and internal floating roofs in section 115.10.

• Adding a definition of incinerator to section 115.10 to clarify the difference between VOC vapor combustor for the purpose of VOC emission control and a solid or liquid waste incinerator.

• Adding a definition of Liquified Petroleum Gas (LPG) to clarify terms used in the VOC loading and unloading rules in section 115.10.

• Clarifying the definition of polymer and resin manufacturing process in section 115.10.

• Clarifying the definition of transport vessel in section 115.10.

We have reviewed these changes and are approving them as RACT.

12. What Are Alternative Control Techniques (ACTs)?

Section 183(c) of the Act provides that we will issue technical documents which identify alternative controls for stationary sources of VOC which emit, when uncontrolled, 25 tpy or more of this pollutant. We have to revise and update these ACT documents as needed. We generate the information in the ACT documents from our papers, literature sources and contacts, control equipment vendors, engineering firms, and Federal, State, and local regulatory agencies. States can use information in the ACT to develop their Reasonably Available Control Technology regulations. Sections 5, 7 and 10 of this document name the titles of EPA's ACT documents for batch processes, bakery oven emissions and offset lithographic printing operations.

13. What Is a Reasonably Available Control Technology?

The EPA has defined RACT as the lowest emission limitation that a particular source is capable of meeting by the application of control technology that is reasonably available, considering technological and economic feasibility. See 44 FR 53761 (September 17, 1979). RACT is required for major sources in ozone nonattainment areas and for minor sources where EPA has issued a Control Technique Guideline. A state may choose to develop its own RACT requirements on a case by case basis, considering the economic and technical circumstances of an individual source. Section 172(c)(1) of the Act contains general requirements for States to implement RACT in areas that do not meet the National Ambient Air Quality Standard (NAAQS). Section 182(b)(2) of the Act contains more specific requirements for moderate and above ozone nonattainment areas.

14. What Is a State Implementation Plan?

Section 110 of the Act requires States to develop air pollution regulations and control strategies to ensure that State air quality meets the NAAQS that EPA has established. Under section 109 of the Act, EPA established the NAAQS to protect public health. The NAAQS address six criteria pollutants. These criteria pollutants are: carbon monoxide, nitrogen dioxide, ozone, lead, particulate matter, and sulfur dioxide.

Each State must submit these regulations and control strategies to us for approval and incorporation into the federally enforceable SIP. Each State has a SIP designed to protect air quality. These SIPs can be extensive, containing State regulations or other enforceable documents and supporting information such as emission inventories, monitoring networks, and modeling demonstrations.

15. What Is the Federal Approval Process for a SIP?

When a State wants to incorporate its regulations into the federally enforceable SIP, the State must formally adopt the regulations and control strategies consistent with State and Federal requirements. This process includes a public notice, a public hearing, a public comment period, and a formal adoption by a state-authorized rulemaking body.

Once a State adopts a rule, regulation, or control strategy, the State may submit the adopted provisions to us and request that we include these provisions in the federally enforceable SIP. We must then decide on an appropriate Federal action, provide public notice on this action, and seek additional public comment regarding this action. If we receive adverse comments, we must address them prior to a final action.

Under section 110 of the Act, when we approve a State's regulation(s) and supporting information, those State regulation(s) and supporting information become a part of the federally approved SIP. You can find records of these SIP actions in the Code of Federal Regulations at Title 40, part 52, entitled “Approval and Promulgation of Implementation Plans.” The actual State regulations that we approved are not reproduced in their entirety in the CFR but are “incorporated by reference,” which means that we have approved a given State regulation with a specific effective date.

16. What Does Federal Approval of a SIP Mean to Me?

A State may enforce State regulations before and after we incorporate those regulations into a federally approved SIP. After we incorporate those regulations into a federally approved SIP, both EPA and the public may also take enforcement action against violators of these regulations.

17. What Areas in Texas Will This Action Effect?

These changes to the rules for batch processing, offset lithography and bakeries that we are approving today will affect the HGA ozone nonattainment area. The HGA area is classified as severe ozone nonattainment and includes the following counties: Brazoria, Chambers, Fort Bend, Galveston, Harris, Liberty, Montgomery, and Waller. If you are in one of these counties, you need to refer to these rules to find out if and how these rules will affect you.

The test methods in section 115.125 now apply Statewide.

The changes to flare requirements apply in the HGA area, Beaumont/Port Arthur area, and Dallas/Fort Worth area.

The changes to the Vent Gas Monitoring and Recordkeeping requirements apply in the eight county HGA area, the Beaumont/Port Arthur nonattainment area (Jefferson, Hardin and Orange), the Dallas/Fort Worth nonattainment area (Dallas, Tarrant, Collin and Denton counties)the El Paso nonattainment area (El Paso county) and the following additional counties: Aransas, Bexar, Calhoun, Matagorda, Nueces, San Patricio, Travis and Victoria Counties.

The EPA is publishing this rule without prior proposal because we view this as a noncontroversial amendment and anticipate no adverse comments. However, in the “Proposed Rules” section of today's Federal Register publication, we are publishing a separate document that will serve as the proposal to approve the SIP revision if adverse comments are received. This rule will be effective on September 14, 2001 without further notice unless we receive adverse comment by August 15, 2001. If EPA receives adverse comments, we will publish a timely withdrawal in the Federal Register informing the public that the rule will not take effect. We will address all public comments in a subsequent final rule based on the proposed rule. We will not institute a second comment period on this action. Any parties interested in commenting must do so at this time.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a State rule implementing a Federal standard, and does not alter the relationship or the distribution of power and responsibilities established in the Act. This rule also is not subject to Executive Order 13045 (62 FR 19885, April 23, 1997), because it is not economically significant.

In reviewing SIP submissions, EPA's role is to approve State choices, provided that they meet the criteria of the Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. The EPA has complied with Executive Order 12630 (53 FR 8859, March 15, 1988) by examining the takings implications of the rule in accordance with the “Attorney General's Supplemental Guidelines for the Evaluation of Risk and Avoidance of Unanticipated Takings'' issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective September 14, 2001 unless EPA receives adverse written comments by August 15, 2001.

Under section 307(b)(1) of the Act, petitions for judicial review of this action must be filed in the United States Court of Appeals for the appropriate circuit by September 14, 2001. Filing a petition for reconsideration by the Administrator of this final rule does not affect the finality of this rule for the purposes of judicial review nor does it extend the time within which a petition for judicial review may be filed, and shall not postpone the effectiveness of such rule or action. This action may not be challenged later in proceedings to enforce its requirements. See section 307(b)(2) of the Act.

List of Subjects in 40 CFR Part 52

Environmental protection, Air pollution control, Carbon monoxide, Hydrocarbons, Nitrogen dioxide, Nitrogen oxides, Ozone, and Reporting and recordkeeping requirements, Volatile organic compounds.

Dated: July 3, 2001.
Jerry Clifford,
Deputy Regional Administrator, Region 6.

Part 52, chapter I, title 40 of the Code of Federal Regulations is amended as follows:

PART 52—[AMENDED]

1. The authority citation for Part 52 continues to read as follows:

Authority: 42 U.S.C. 7401 et seq.

Subpart SS—Texas

2. In § 52.2270 the table in paragraph (c) is amended under Chapter 115 as follows:

a. Under Chapter 115 (Reg 5), Subchapter A, by removing the entry for “Section 115.10” and adding in its place a new entry for Section 115.10;

b. Under Subchapter B, by removing the heading “Vent Gas Control” and removing entries for Sections 115.121 to 115.129 and adding in their place the heading “Division 2: Vent Gas Control” and individual entries for Sections 115.120, 115.121, 115.122, 115.123, 115.125, 115.126, 115.127, and 115.129;

c. Under Subchapter B, Division 6, revising the entries for Sections 115.161, 115.162, 115.164, 115.165, 115.166, 115.167, 115.169;

d. Under Subchapter C, before Section 115.211, add the heading “Division 1: Loading and Unloading of Volatile Organic Compounds”;

e. Under Subchapter C, Division 1, revise the individual entries for Sections 115.211, 115.212 and 115.216;

f. Under Subchapter C, by removing the entry for “Section 115.241 to 115.249” and adding in its place “Division 4: Control of Vehicle Refueling Emissions (Stage II) at Motor Vehicle Fuel Dispensing Facilities” and individual entries for Sections 115.240, 115.241, 115.242, 115.243, 115.244, 115.245, 115.246, 115.247, 115.248, 115.249;

g. Under Subchapter E, by removing the entry for “Section 115.432 to 115.439” and adding in its place “Division 3: Flexographic And Rotogravure Printing” and individual entries for Sections 115.430, 115.432, 115.433, 115.435, 115.436, 115.437, and 115.439;

h. Under Subchapter E, by revising the heading “Offset Lithographic Printing” to read “Division 4: Offset Lithographic Printing”.

i. Under Subchapter E, Division 4, by removing the individual entries for Sections 115.440, 115.443, 115.446, and 115.442 to 115.449, and adding in their place individual entries for Sections 115.440, 115.442, 115.443, 115.445, 115.446, and 115.449;

§ 52.2270 Identification of plan.

* * * * *

(c) * * *

EPA Approved Regulations in the Texas SIP
State citation | Title/Subject | State approval/submittal date | EPA approval date | Explanation
* * * * * * *
Chapter 115 (Reg. 5)—Control of Air Pollution From Volatile Organic Compounds
| * * * * * * *
Subchapter A—Definitions
Section 115.10 | Definitions | 36865 | 07/16/2001 66 FR 36917
Subchapter B—General Volatile Organic Compound Sources
| * * * * * * *
Division 2: Vent Gas Control
Section 115.120 | Vent Gas Definitions | 36865 | 07/16/2001 66 FR 36917 |
Section 115.121 | Emission Specifications | 35549 | 01/26/1999, 64 FR 03841 |
Section 115.122 | Control Requirements | 36865 | 07/16/2001 66 FR 36918 |
Section 115.123 | Alternate Control Requirements | 36214 | 04/26/2000, 65 FR 18007 |
Section 115.125 | Testing Requirements | 36865 | 07/16/2001 66 FR 36917 |
Section 115.126 | Monitoring and Recordkeeping Requirements | 36865 | 07/16/2001 66 FR 36917 |
Section 115.127 | Exemptions | 36865 | 07/16/2001 66 FR 36917 |
Section 115.129 | Counties and Compliance Schedules | 36865 | 07/16/2001 66 FR 36918 |
* * * * * * *
Division 6: Batch Processes
Section 115.160 | Batch Process Definitions | 36459 | 12/20/2000, 65 FR 79749 |
Section 115.161 | Applicability | 36865 | [Insert publication date and Federal Register page number] |
Section 115.162 | Control Requirements | 36865 | 07/16/2001 66 FR 36918 |
* * * * * * *
Section 115.164 | Determination of Emissions and Flow Rates | 36865 | 07/16/2001 66 FR 36918 |
Section 115.165 | Approved Test Methods and Testing Requirements | 36865 | 07/16/2001 66 FR 36918 |
Section 115.166 | Monitoring and Recordkeeping Requirements | 36865 | 07/16/2001 66 FR 36918 |
Section 115.167 | Exemptions | 36865 | 07/16/2001 66 FR 36918 |
Section 115.169 | Counties and Compliance Schedules | 36865 | 07/16/2001 66 FR 36918 |
Subchapter C—Volatile Organic Compound Transfer Operations
Division 1: Loading and Unloading of Volatile Organic Compounds
Section 115.211 | Emission Specifications | 36865 | 07/16/2001 66 FR 36918 |
Section 115.212 | Control Requirements | 36865 | 07/16/2001 66 FR 36918 |
* * * * * * *
Section 115.216 | Monitoring and Recordkeeping Requirements | 36865 | 07/16/2001 66 FR 36918 |
* * * * * * *
Division 4: Control of Vehicle Refueling Emissions (Stage II) at Motor Vehicle Fuel Dispensing Facilities
Section 115.240 | Stage II Vapor Recovery Definitions | 36865 | 07/16/2001 66 FR 36918
Section 115.241 | Emission Specifications | 33892 | 04/15/1994, 59 FR 17942
Section 115.242 | Control Requirements | 34282 | 05/22/1997, 62 FR 27967
Section 115.243 | Alternate Control Requirements | 34282 | 05/22/1997, 62 FR 27967
Section 115.244 | Inspection Requirements | 34282 | 05/22/1997, 62 FR 27967
Section 115.245 | Testing Requirements | 34282 | 05/22/1997, 62 FR 27967
Section 115.246 | Recordkeeping Requirements | 34282 | 05/22/1997, 62 FR 27967
Section 115.247 | § 115.247. Exemptions | 34282 | 05/22/1997, 62 FR 27967
Section 115.248 | Training Requirements | 34282 | 05/22/1997, 62 FR 27967
Section 115.249 | Counties and Compliance Schedules | 34282 | 05/22/1997, 62 FR 27967
* * * * * * *
Subchapter E—Solvent-Using Processes
| * * * * * * *
Division 3: Flexographic and Rotogravure Printing
Section 115.430 | Flexographic and Rotogravure Printing Definitions | 36865 | 07/16/2001 66 FR 36918
Section 115.432 | Control Requirements | 34457 | 05/22/1997, 62 FR 27968
Section 115.433 | Alternate Control Requirements | 35108 | 01/26/1999, 64 FR 03848
Section 115.435 | Testing Requirements | 35108 | 01/26/1999, 64 FR 03848
Section 115.436 | Monitoring and Recordkeeping Requirements | 35108 | 01/26/1999, 64 FR 03849
Section 115.437 | Exemptions | 35108 | 01/26/1999, 64 FR 03848
Section 115.439 | Counties and Compliance Schedules | 35108 | 01/26/1999, 64 FR 03848
Division 4: Offset Lithographic Printing
Section 115.440 | Offset Printing Definitions | 36214 | 04/06/2000, 65 FR 18008
Section 115.442 | Control Requirements | 35549 | 01/26/1999, 64 FR 03849
Section 115.443 | Alternate Control Requirements | 36214 | 04/06/2000, 65 FR 18008 Requirements
Section 115.445 | Approved Test Methods | 35108 | 01/26/1999, 64 FR 03848
Section 115.446 | Monitoring and Recordkeeping Requirements | 36214 | 04/06/2000, 65 FR 18008
Section 115.449 | Counties and Compliance Schedules | 36865 | 07/16/2001 66 FR 36919
| * * * * * * *

[FR Doc. 01-17467 Filed 7-13-01; 8:45 am]

BILLING CODE 6560-50-P